DEPARTMENT OF EDUCATION

34 CFR Chapter II

Office of Elementary and Secondary Education; Title I of the Elementary and Secondary Education Act of 1965, as amended (ESEA); Improving the Academic Achievement of the Disadvantaged; Correction

AGENCY: Department of Education.

ACTION: Notice of meeting to conduct a negotiated rulemaking process; correction.

SUMMARY: On February 28, 2002 a notice of meetings to conduct a negotiated rulemaking process relating to improving the academic achievement of the disadvantaged was published in the Federal Register (67 FR 9223). This document corrects the address of the meetings, the list of individuals who will participate in negotiated rulemaking, and a Web site address.

FOR FURTHER INFORMATION CONTACT: Susan Wilhelm, Compensatory Education Programs, Office of Elementary and Secondary Education, U.S. Department of Education, 400 Maryland Avenue, SW, room 3W202, Washington, DC 20202-6132. Telephone (202) 260-0826.

If you use a telecommunications device for the deaf (TDD), you may call the Federal Information Relay Service (FIRS) at 1-800-877-8339.

Individuals with disabilities may obtain this document in an alternative format (e.g., Braille, large print, audiotape, or computer diskette) on request to the contact person listed in the preceding paragraph.

The meeting site is accessible to individuals with disabilities. If you need an auxiliary aid or service to participate in the meeting (e.g., interpreting service, assistive listening device, or materials in alternative format), notify the contact person listed in this notice in advance of the scheduled meeting date. We will make every effort to meet any request we receive.

SUPPLEMENTARY INFORMATION: The caption ADDRESSES on page 9223, column two, reads “The five meetings to conduct the negotiated rulemaking process will be held at the U.S. Department of Education, Barnard Auditorium, 400 Maryland Avenue, SW., Washington, DC 20202.” It is corrected to read “The five meetings to conduct the negotiated rulemaking process will be held at the Sheraton Premiere At Tysons Corner, 8661 Leesburg Pike, Vienna, VA 22182.” The published listing of individuals under the heading Representing Principals and Teachers on page 9224, column one, is corrected by adding to the list “David Sherman, Vice President, UFT, New York City (NY)”. The published listing of individuals under the heading Representing local Administrators and Local School Boards on page 9224, column one, is corrected by removing from the list “Nelson Smith, charter schools, Washington, DC” and adding, in its place, “Nelson Smith, Managing Director for New School Services, New American Schools, Arlington (VA); formerly Executive Director of the DC Public Charter School Board”. The published Web site under the heading Topics Selected for Negotiation on page 9224, column two, reads “www.ed.gov/nelb/”. It is corrected to read “www.ed.gov/nclb/”.

Electronic Access to This Document

You may view this document, as well as all other Department of Education documents published in the Federal Register, in Text or Adobe Portable Document Format (PDF), on the Internet at the following site: www.ed.gov/legislation/FedRegister

To use PDF, you must have Adobe Acrobat Reader, which is available free at this site. If you have questions about using PDF, call the U.S. Government Printing Office toll free at 1-888-293-6498; or in the Washington, DC, area at (202) 512-1530.

Note: The official version of this document is the document published in the Federal Register. Free Internet access to the official edition of the Federal Register and the Code of Federal Regulations is available on GPO access at: http://www.access.gpo.gov/nara/index.html

Dated: February 28, 2002.
Susan B. Neuman,
Assistant Secretary for Elementary and Secondary Education.

[FR Doc. 02-5256 Filed 3-1-02; 11:21 am]

BILLING CODE 4001-01-U